DEPARTMENT OF THE INTERIOR

National Park Service

[NPS-WASO-NAGPRA-NPS0028521; PPWOCRADN0-PCU00RP14.R50000]

Notice of Inventory Completion: Missouri Department of Natural Resources, Jefferson City, MO; Correction; Correction

AGENCY: National Park Service, Interior.

ACTION: Notice; correction.

SUMMARY: The Missouri Department of Natural Resources has corrected an inventory of human remains and associated funerary objects, published in a Notice of Inventory Completion in the Federal Register on September 22, 2017. This notice further corrects the cultural affiliation of the human remains and associated funerary objects. Lineal descendants or representatives of any Indian Tribe or Native Hawaiian organization not identified in this notice that wish to request transfer of control of these human remains and associated funerary objects should submit a written request to the Missouri Department of Natural Resources. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Missouri Department of Natural Resources at the address in this notice by September 16, 2019.

ADDRESSES: Mike Sutherland, Missouri Department of Natural Resources, P.O. Box 176, Jefferson City, MO 65102, telephone (573)751-2123, email mike.sutherland@dnr.mo.gov.

SUPPLEMENTARY INFORMATION: Notice is here given in accordance with the Native American Graves Protection and Repatriation Act (NAGPRA), 25 U.S.C. 3003, of the correction of an inventory of human remains and associated funerary objects under the control of the Missouri Department of Natural Resources. The human remains and associated funerary objects were removed from the Clarksville Mound Group Site (23PI6) in Pike County, MO.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the cultural affiliation of the human remains and associated funerary objects originally published in a Notice of Inventory Completion in the Federal Register (82 FR 44453-44454, September 22, 2017). This correction is based on evidence of cultural affiliation of the human remains and associated funerary objects with The Osage Nation (previously listed as the Osage Tribe) that was provided after the Notice of Inventory Completion was published, including the December 21, 2018 Native American Graves Protection and Repatriation Review Committee Finding Regarding Human Remains and Associated Funerary Objects Under the Control of the State of Missouri Department of Natural Resources, State Historic Preservation Office, Jefferson City, MO, published in the Federal Register(84 FR 13064-13065, April 3, 2019). Transfer of control of the items in this correction notice has not occurred.

Correction

In the Federal Register (82 FR 44453, September 22, 2017), column 3, full paragraph 3, under the heading “Correction” is corrected by substituting the following paragraph:

Pursuant to 25 U.S.C. 3001(2), there is a relationship of shared group identity that can be reasonably traced between the Native American human remains and The Osage Nation (previously listed as the Osage Tribe).

Additional Requestors and Disposition

Lineal descendants or representatives of any Indian Tribe or Native Hawaiian organization not identified in this notice that wish to request transfer of control of these human remains and associated funerary objects should submit a written request with information in support of the request to Mike Sutherland, Missouri Department of Natural Resources, P.O. Box 176, Jefferson City, MO 65102, telephone (573) 751-2123, email mike.suthlerand@dnr.mo.gov, by September 16, 2019. After that date, if no additional requestors have come forward, transfer of control of the human remains and associated funerary objects to The Osage Nation (previously listed as the Osage Tribe) may proceed.

The Missouri Department of Natural Resources is responsible for notifying the Sac & Fox Nation of Missouri in Kansas and Nebraska; Sac & Fox Nation, Oklahoma; Sac & Fox Tribe of the Mississippi in Iowa; and The Osage Nation (previously listed as the Osage Tribe) that this notice has been published.

Dated: July 26, 2019.
Melanie O'Brien,
Manager, National NAGPRA Program.

[FR Doc. 2019-17554 Filed 8-14-19; 8:45 am]

BILLING CODE 4312-52-P